DEPARTMENT OF COMMERCE

International Trade Administration

Environmental Technologies Trade Advisory Committee (ETTAC)

AGENCY: International Trade Administration, U.S. Department of Commerce.

ACTION: Notice of open meeting.

SUMMARY: The Environmental Technologies Trade Advisory Committee will hold a plenary meeting from 9:30 AM to 3:00 PM on February 17, 2000. The ETTAC was created on May 31, 1994, to advise the U.S. government on policies and programs to expand U.S. exports of environmental products and services.

DATE and PLACE: February 17, 2000. The meeting will take place in Room 6800 of the Department of Commerce, 14th Street and Constitution Avenue, NW, Washington, DC 20230.

The plenary meeting will include an update of the WTO ATL process, a full committee strategy session and review the objectives and agendas of its subcommittee working groups: Market Access, Trade Impediments, Government Resources, Finance, Water, and Energy.

This meeting is physically accessible to people with disabilities. Requests for sign language interpretation or other auxiliary aids should be directed to Jane Siegel, Department of Commerce, Office of Environmental Technologies Exports. Phone: 202-482-5225

Dated: January 20, 2000.
E. Sage Chandler,
Office of Environmental Technologies Exports.

[FR Doc. 00-2046 Filed 1-28-00; 8:45 am]

BILLING CODE 3510-DR-P